DEPARTMENT OF TRANSPORTATION

Federal Aviation Administration

14 CFR Part 71

[Docket No. FAA-2013-0990; Airspace Docket No. 13-AGL-8]

RIN 2120-AA66

Modification and Establishment of Air Traffic Service (ATS) Routes in the Vicinity of Huntingburg, IN

AGENCY: Federal Aviation Administration (FAA), DOT.

ACTION: Final rule.

SUMMARY: This action modifies VOR Federal airway V-243 and establishes area navigation (RNAV) route T-325 in the vicinity of Huntingburg, IN. The FAA is taking this action due to the scheduled decommissioning of the Huntingburg, IN (HNB), VHF Omnidirectional Range (VOR)/Distance Measuring Equipment (DME) facility, which provides navigation guidance for a portion of V-243.

DATES: Effective date 0901 UTC, November 13, 2014. The Director of the Federal Register approves this incorporation by reference action under 1 CFR part 51, subject to the annual revision of FAA Order 7400.9 and publication of conforming amendments.

ADDRESSES: FAA Order 7400.9X, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

The FAA published in the Federal Register a notice of proposed rulemaking (NPRM) to amend VOR Federal airway V-243 and establish RNAV route T-325, in the Huntingburg, IN, area (78 FR 78302, December 26, 2013). Interested parties were invited to participate in this rulemaking effort by submitting written comments on the proposal. Two comments were received. The Aircraft Owners and Pilots Association supported the modification, but encouraged the FAA to utilize stakeholders in developing a national air traffic service route modernization plan.

The second commenter requested inclusion of the WEGEE fix in the T-325 routing, even if it and/or the BUNKA fix had to be moved to accommodate, and that the route have a single course change using the APALO fix for that course change. In considering the commenter's request, the FAA determined the WEGEE fix supports a reporting point on VOR Federal airway V-305, an instrument departure procedure from Indianapolis International Airport, and an instrument approach procedure to a different airport. Additionally, the BUNKA fix supports a reporting point on VOR Federal airway V-221, a holding pattern, and five instrument approach procedures to three different airports. To minimize changes to the National Airspace System (NAS) infrastructure, beyond the decommissioning of the Huntingburg VOR/DME, and to avoid a host of cascading route and procedure changes that would be required by moving the WEGEE and BUNKA fixes, this action establishes RNAV route T-325 as proposed in the NPRM.

The Rule

The FAA is amending Title 14, Code of Federal Regulations (14 CFR) part 71 by modifying VOR Federal airway V-243 and establishing RNAV route T-325. The scheduled decommissioning of the HNB VOR/DME facility has made this action necessary. The route modification and establishment actions are outlined below.

V-243: V-243, previously extending between the Craig, FL, VOR/Tactical Air Navigation (VORTAC) and the Terre Haute, IN, VORTAC, is modified to retain the airway routing between the Craig, FL, VORTAC and Bowling Green, KY, VORTAC. The route segment between the Bowling Green, KY, VORTAC and the Terre Haute, IN, VORTAC is removed. The new RNAV route T-325, described below, replaces the V-243 route segment removed.

T-325: T-325 is established between the Bowling Green, KY, VORTAC and the Terre Haute, IN, VORTAC, replacing the V-243 route segment removed as described above. The RNAV route segments between the Bowling Green, KY, VORTAC and the APALO, IN, waypoint (WP) fix and between the BUNKA, IN, WP fix and the Terre Haute, IN, VORTAC overlay the V-243 route segments that were removed. The route segment between the APOLO and BUNKA WP fixes provides a shorter and almost direct RNAV routing between the Bowling Green, KY, and Terre Haute, IN, VORTAC facilities. Additionally, T-325 uses existing waypoints to minimize changes to the NAS infrastructure and to retain the existing functionality and supported procedures by the waypoints used to describe the route.

In the NPRM, the geographic coordinates published for the Bowling Green, KY, and Terre Haute, IN, VORTAC facilities in the T-325 route description contained errors and are corrected in this rule. The Bowling Green, KY, VORTAC coordinates are changed from “lat. 36°55′43″ N., long. 086°26′36″ W.” to “lat. 36°55′44″ N., long. 086°26′36″ W.”; and the Terre Haute, IN, VORTAC coordinates are changed from “lat. 39°29′20″ N., long. 087°14′56″ W.” to “lat. 39°29′20″ N., long. 087°14′57″ W.” With the exception of these changes, this rule is the same as that proposed in the NPRM.

Domestic VOR Federal airways are published in paragraph 6010(a) and low altitude RNAV routes (T) are published in paragraph 6011, respectively, of FAA Order 7400.9X dated August 7, 2013, and effective September 15, 2013, which is incorporated by reference in 14 CFR 71.1. The VOR Federal airway and low altitude RNAV route listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 6010(a)—Domestic VOR Federal Airways

* * * * *

V-243 [Amended]

From Craig, FL; Waycross, GA; Vienna, GA; LaGrange, GA; INT LaGrange 342° and Choo Choo, GA, 189° radials; Choo Choo; to Bowling Green, KY.

Paragraph 6011—United States Area Navigation Routes

* * * * *

T-325 Bowling Green, KY to Terre Haute, IN [New]
Bowling Green, KY (BWG) | VORTAC | (Lat. 36°55′44″ N., long. 086°26′36″ W.)
RENRO, KY | WP | (Lat. 37°28′51″ N., long. 086°39′19″ W.)
LOONE, KY | WP | (Lat. 37°44′14″ N., long. 086°45′18″ W.)
APALO, IN | WP | (Lat. 38°00′21″ N., long. 086°51′35″ W.)
BUNKA, IN | WP | (Lat. 39°04′57″ N., long. 087°09′07″ W.)
Terre Haute, IN (TTH) | VORTAC | (Lat. 39°29′20″ N., long. 087°14′57″ W.)

Issued in Washington, DC, on August 7, 2014.
Gary A. Norek,
Manager, Airspace Policy and Regulations Group.

[FR Doc. 2014-19204 Filed 8-13-14; 8:45 am]

BILLING CODE 4910-13-P